DEPARTMENT OF ENERGY

Federal Energy Regulatory Commission

[Docket No. RR06-1-000]

North American Electric Reliability Council and North American Electric Reliability Corporation; Notice of Filing

April 7, 2006.

Take notice that on April 4, 2006, the North American Electric Reliability Council and its affiliate, North American Electric Reliability Corporation, (jointly “NERC”) tendered for filing an application for certification as the Electric Reliability Organization (“ERO”) pursuant to section 215 of the Federal Power Act. NERC claims to meet all statutory and regulatory requirements to serve as the ERO for the United States and to ensure reliable operation of the North American bulk power system. NERC also seeks Commission approval of its certificate of incorporation, its bylaws, and its rules of procedure, all of which will become the “ERO Rules.” In a companion filing, NERC is seeking approval of its currently-effective reliability standards.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. on May 4, 2006.

Magalie R. Salas,
Secretary.

[FR Doc. E6-5554 Filed 4-13-06; 8:45 am]

BILLING CODE 6717-01-P